DEPARTMENT OF TRANSPORTATION

Federal Aviation Administration

14 CFR Part 97

[Docket No. 31191; Amdt. No. 3798]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective May 8, 2018. The compliance date for each SIAP, associated Takeoff Minimums, and ODP is specified in the amendatory provisions.

The incorporation by reference of certain publications listed in the regulations is approved by the Director of the Federal Register as of May 8, 2018.

ADDRESSES: Availability of matter incorporated by reference in the amendment is as follows:

For Examination

1. U.S. Department of Transportation, Docket Ops-M30, 1200 New Jersey Avenue SE, West Bldg., Ground Floor, Washington, DC, 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420)Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION:

This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore— (1) is not a “significant regulatory action” under Executive Order 12866;(2) is not a “significant rule” under DOT regulatory Policies and Procedures (44 FR 11034; February 26, 1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC on April 20, 2018.
John S. Duncan,
Director, Flight Standards Service.

Adoption Of The Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
24-May-18 | RI | Newport | Newport State | 8/4781 | 3/29/18 | This NOTAM, published in TL 18-11, is hereby rescinded in its entirety.
24-May-18 | AZ | Phoenix | Phoenix-Mesa Gateway | 7/3135 | 4/6/18 | RNAV (GPS) RWY 12R, Amdt 1B
24-May-18 | AZ | Phoenix | Phoenix-Mesa Gateway | 7/3136 | 4/6/18 | RNAV (GPS) RWY 30L, Amdt 1B
24-May-18 | OK | Norman | University of Oklahoma Westheimer | 7/4912 | 4/11/18 | LOC RWY 3, Amdt 4
24-May-18 | OK | Norman | University of Oklahoma Westheimer | 7/4913 | 4/11/18 | RNAV (GPS) RWY 18, Amdt 2
24-May-18 | OK | Ardmore | Ardmore Muni | 7/5209 | 4/6/18 | ILS OR LOC RWY 31, Amdt 5B
24-May-18 | OK | Ardmore | Ardmore Muni | 7/5213 | 4/6/18 | RNAV (GPS) RWY 31, Amdt 1B
24-May-18 | PA | Franklin | Venango Rgnl | 7/6969 | 4/11/18 | VOR RWY 21, Amdt 8A
24-May-18 | CO | Rifle | Rifle Garfield County | 7/7921 | 4/11/18 | RNAV (RNP) Z RWY 26, Amdt 1B
24-May-18 | MI | Allegan | Padgham Field | 8/0101 | 4/6/18 | RNAV (GPS) RWY 29, Orig
24-May-18 | MI | Allegan | Padgham Field | 8/0117 | 4/6/18 | RNAV (GPS) RWY 11, Orig-A
24-May-18 | MI | Allegan | Padgham Field | 8/0119 | 4/6/18 | VOR RWY 29, Amdt 14
24-May-18 | MO | Fulton | Elton Hensley Memorial | 8/0231 | 4/6/18 | Takeoff Minimums and Obstacle DP, Amdt 1
24-May-18 | IN | Goshen | Goshen Muni | 8/0233 | 4/6/18 | Takeoff Minimums and Obstacle DP, Orig
24-May-18 | TX | Longview | East Texas Rgnl | 8/0245 | 4/6/18 | ILS OR LOC RWY 13, Amdt 13A
24-May-18 | NE | Grand Island | Central Nebraska Rgnl | 8/0251 | 4/6/18 | ILS OR LOC RWY 35, Amdt 9F
24-May-18 | KS | Topeka | Topeka Rgnl | 8/0311 | 4/6/18 | ILS OR LOC RWY 31, Amdt 10
24-May-18 | CA | Upland | Cable | 8/0674 | 4/11/18 | VOR-A, Orig-A
24-May-18 | MO | Charleston | Mississippi County | 8/1039 | 4/6/18 | Takeoff Minimums and Obstacle DP, Orig
24-May-18 | AK | Mountain Village | Mountain Village | 8/1212 | 4/11/18 | RNAV (GPS) RWY 2, Amdt 1A
24-May-18 | KS | Wichita | Wichita Dwight D Eisenhower National | 8/1316 | 4/6/18 | RNAV (RNP) Z RWY 19L, Amdt 1
24-May-18 | KS | Wichita | Wichita Dwight D Eisenhower National | 8/1317 | 4/6/18 | RNAV (GPS) Y RWY 19L, Amdt 2
24-May-18 | AR | De Queen | J Lynn Helms Sevier County | 8/1950 | 4/11/18 | RNAV (GPS) RWY 8, Orig-A
24-May-18 | NM | Santa Fe | Santa Fe Muni | 8/2099 | 4/11/18 | Takeoff Minimums and Obstacle DP, Amdt 4
24-May-18 | AK | Homer | Homer | 8/2638 | 4/11/18 | LOC BC RWY 22, Amdt 6
24-May-18 | MO | Joplin | Joplin Rgnl | 8/2770 | 4/9/18 | RNAV (GPS) RWY 13, Orig-A
24-May-18 | MO | Joplin | Joplin Rgnl | 8/2771 | 4/9/18 | RNAV (GPS) RWY 18, Orig-A
24-May-18 | MO | Joplin | Joplin Rgnl | 8/2772 | 4/9/18 | RNAV (GPS) RWY 31, Amdt 1A
24-May-18 | MO | Joplin | Joplin Rgnl | 8/2773 | 4/9/18 | RNAV (GPS) RWY 36, Orig-B
24-May-18 | MO | Joplin | Joplin Rgnl | 8/2774 | 4/9/18 | LOC BC RWY 31, Amdt 21D
24-May-18 | MI | Battle Creek | W K Kellogg | 8/3215 | 4/11/18 | ILS OR LOC RWY 23R, Amdt 19
24-May-18 | IL | Belleville | Scott AFB/MidAmerica | 8/3218 | 4/11/18 | ILS OR LOC RWY 32R, Orig-H
24-May-18 | CO | Grand Junction | Grand Junction Regional | 8/3221 | 4/11/18 | ILS OR LOC RWY 11, Amdt 16B
24-May-18 | OH | Jackson | James A Rhodes | 8/3523 | 4/9/18 | RNAV (GPS) RWY 1, Amdt 1D
24-May-18 | OH | Jackson | James A Rhodes | 8/3526 | 4/9/18 | RNAV (GPS) RWY 19, Amdt 1C
24-May-18 | OH | Jackson | James A Rhodes | 8/3527 | 4/9/18 | VOR/DME-A, Amdt 2B
24-May-18 | IA | Shenandoah | Shenandoah Muni | 8/3555 | 4/9/18 | RNAV (GPS) RWY 4, Orig
24-May-18 | IA | Shenandoah | Shenandoah Muni | 8/3561 | 4/9/18 | VOR/DME RWY 12, Amdt 4A
24-May-18 | IA | Shenandoah | Shenandoah Muni | 8/3565 | 4/9/18 | NDB RWY 4, Orig-B
24-May-18 | NE | Gothenburg | Gothenburg Muni | 8/3991 | 4/11/18 | Takeoff Minimums and Obstacle DP, Amdt 1A
24-May-18 | MO | Joplin | Joplin Rgnl | 8/4158 | 4/9/18 | ILS OR LOC/DME RWY 18, Amdt 2A
24-May-18 | NC | Charlotte | Charlotte/Douglas Intl | 8/4264 | 4/17/18 | Takeoff Minimums and Obstacle DP, Amdt 7
24-May-18 | AK | Bethel | Bethel | 8/4455 | 4/11/18 | ILS Z OR LOC Z RWY 19R, Amdt 7E
24-May-18 | ND | Dickinson | Dickinson—Theodore Roosevelt Rgnl | 8/4462 | 4/9/18 | RNAV (GPS) RWY 32, Amdt 2
24-May-18 | ND | Dickinson | Dickinson—Theodore Roosevelt Rgnl | 8/4479 | 4/9/18 | RNAV (GPS) RWY 25, Orig-A
24-May-18 | ND | Dickinson | Dickinson—Theodore Roosevelt Rgnl | 8/4480 | 4/9/18 | ILS OR LOC RWY 32, Amdt 1B
24-May-18 | IL | Lincoln | Logan County | 8/4657 | 4/11/18 | RNAV (GPS) RWY 3, Orig
24-May-18 | IL | Lincoln | Logan County | 8/4659 | 4/11/18 | RNAV (GPS) RWY 21, Orig
24-May-18 | IL | Lincoln | Logan County | 8/4660 | 4/11/18 | VOR RWY 3, Amdt 7
24-May-18 | IL | Lincoln | Logan County | 8/4661 | 4/11/18 | NDB RWY 21, Amdt 2
24-May-18 | TX | Amarillo | Rick Husband Amarillo Intl | 8/4668 | 4/13/18 | LDA/DME RWY 22, Amdt 1
24-May-18 | AR | Clinton | Holley Mountain Airpark | 8/4720 | 4/11/18 | RNAV (GPS) RWY 23, Amdt 1A
24-May-18 | AR | Clinton | Holley Mountain Airpark | 8/4721 | 4/11/18 | RNAV (GPS) RWY 5, Amdt 1B
24-May-18 | IA | Davenport | Davenport Muni | 8/4775 | 4/6/18 | ILS OR LOC RWY 15, Amdt 1B
24-May-18 | IA | Davenport | Davenport Muni | 8/4777 | 4/6/18 | RNAV (GPS) RWY 3, Amdt 1C
24-May-18 | IA | Davenport | Davenport Muni | 8/4780 | 4/6/18 | RNAV (GPS) RWY 15, Amdt 2B
24-May-18 | IA | Davenport | Davenport Muni | 8/4783 | 4/6/18 | RNAV (GPS) RWY 21, Amdt 1D
24-May-18 | IA | Davenport | Davenport Muni | 8/4784 | 4/6/18 | RNAV (GPS) RWY 33, Amdt 1C
24-May-18 | IA | Davenport | Davenport Muni | 8/4791 | 4/6/18 | VOR RWY 3, Amdt 9A
24-May-18 | IA | Davenport | Davenport Muni | 8/4792 | 4/6/18 | VOR RWY 21, Amdt 8B
24-May-18 | MN | Austin | Austin Muni | 8/4821 | 4/11/18 | RNAV (GPS) RWY 17, Amdt 1B
24-May-18 | PA | Allentown | Lehigh Valley Intl | 8/5371 | 4/9/18 | ILS OR LOC RWY 6, Amdt 23A
24-May-18 | PA | Allentown | Lehigh Valley Intl | 8/5372 | 4/9/18 | ILS OR LOC/DME RWY 24, Amdt 1A
24-May-18 | PA | Allentown | Lehigh Valley Intl | 8/5373 | 4/13/18 | RNAV (GPS) RWY 6, Amdt 1B
24-May-18 | PA | Allentown | Lehigh Valley Intl | 8/5374 | 4/9/18 | RNAV (GPS) RWY 24, Amdt 1A
24-May-18 | PA | Allentown | Lehigh Valley Intl | 8/5375 | 4/9/18 | RNAV (GPS) RWY 31, Amdt 2A
24-May-18 | PA | Allentown | Lehigh Valley Intl | 8/5376 | 4/9/18 | VOR-A, Amdt 10
24-May-18 | PA | Allentown | Lehigh Valley Intl | 8/5390 | 4/9/18 | TACAN-C, Orig
24-May-18 | RI | Newport | Newport State | 8/6556 | 4/11/18 | VOR/DME RWY 16, Amdt 1B
24-May-18 | ND | Casselton | Casselton Robert Miller Rgnl | 8/7299 | 4/11/18 | RNAV (GPS) RWY 31, Amdt 1
24-May-18 | ND | Casselton | Casselton Robert Miller Rgnl | 8/7300 | 4/11/18 | VOR/DME RWY 31, Amdt 1A
24-May-18 | SD | Huron | Huron Rgnl | 8/7324 | 4/11/18 | ILS OR LOC RWY 12, Amdt 10
24-May-18 | SD | Huron | Huron Rgnl | 8/7325 | 4/11/18 | LOC/DME BC RWY 30, Amdt 13
24-May-18 | SD | Huron | Huron Rgnl | 8/7326 | 4/11/18 | VOR RWY 12, Amdt 22
24-May-18 | SD | Huron | Huron Rgnl | 8/7327 | 4/11/18 | RNAV (GPS) RWY 30, Amdt 1A
24-May-18 | SD | Huron | Huron Rgnl | 8/7328 | 4/11/18 | RNAV (GPS) RWY 12, Orig
24-May-18 | PA | New Castle | New Castle Muni | 8/7350 | 4/6/18 | NDB RWY 23, Amdt 3B
24-May-18 | NE | Pender | Pender Muni | 8/7569 | 4/11/18 | Takeoff Minimums and Obstacle DP, Orig
24-May-18 | TX | Mexia | Mexia-Limestone Co | 8/7712 | 4/6/18 | NDB-A, Amdt 4
24-May-18 | TX | Mexia | Mexia-Limestone Co | 8/7713 | 4/6/18 | RNAV (GPS) RWY 36, Orig-A
24-May-18 | OH | New Lexington | Perry County | 8/7718 | 4/6/18 | VOR/DME RWY 26, Amdt 2
24-May-18 | OH | New Lexington | Perry County | 8/7719 | 4/6/18 | RNAV (GPS) RWY 26, Orig-A
24-May-18 | NJ | Teterboro | Teterboro | 8/8099 | 4/11/18 | ILS OR LOC RWY 6, Amdt 29G
24-May-18 | NJ | Teterboro | Teterboro | 8/8101 | 4/11/18 | COPTER ILS OR LOC RWY 6, Amdt 1F
24-May-18 | NJ | Teterboro | Teterboro | 8/8102 | 4/11/18 | ILS OR LOC RWY 19, Orig-A
24-May-18 | NJ | Teterboro | Teterboro | 8/8105 | 4/11/18 | RNAV (GPS) X RWY 6, Amdt 2
24-May-18 | NJ | Teterboro | Teterboro | 8/8106 | 4/11/18 | RNAV (GPS) Y RWY 6, Amdt 2B
24-May-18 | NJ | Teterboro | Teterboro | 8/8121 | 4/11/18 | VOR/DME RWY 6, Orig-D
24-May-18 | NJ | Teterboro | Teterboro | 8/8122 | 4/11/18 | VOR RWY 24, Orig-D
24-May-18 | LA | Ruston | Ruston Rgnl | 8/8418 | 4/6/18 | NDB RWY 18, Orig-D
24-May-18 | LA | Ruston | Ruston Rgnl | 8/8420 | 4/6/18 | RNAV (GPS) RWY 18, Orig-A
24-May-18 | LA | Ruston | Ruston Rgnl | 8/8424 | 4/6/18 | RNAV (GPS) RWY 36, Orig-A
24-May-18 | MA | Hyannis | Barnstable Muni-Boardman/Polando Field | 8/8563 | 4/11/18 | ILS OR LOC RWY 15, Amdt 5
24-May-18 | MA | Hyannis | Barnstable Muni-Boardman/Polando Field | 8/8564 | 4/11/18 | RNAV (GPS) RWY 15, Orig-A
24-May-18 | WI | Milwaukee | Lawrence J Timmerman | 8/9042 | 4/9/18 | RNAV (GPS) RWY 4L, Orig-B
24-May-18 | WI | Milwaukee | Lawrence J Timmerman | 8/9044 | 4/9/18 | RNAV (GPS) RWY 15L, Orig-B
24-May-18 | WI | Milwaukee | Lawrence J Timmerman | 8/9051 | 4/9/18 | RNAV (GPS) RWY 22R, Orig-C
24-May-18 | NJ | Teterboro | Teterboro | 8/9174 | 4/13/18 | VOR/DME-B, Amdt 2D
24-May-18 | WI | Milwaukee | Lawrence J Timmerman | 8/9495 | 4/9/18 | VOR RWY 4L, Amdt 9B
24-May-18 | WI | Milwaukee | Lawrence J Timmerman | 8/9497 | 4/9/18 | LOC RWY 15L, Amdt 6B
24-May-18 | MN | Mora | Mora Muni | 8/9655 | 4/6/18 | NDB RWY 35, Orig
24-May-18 | MN | Mora | Mora Muni | 8/9656 | 4/6/18 | RNAV (GPS) RWY 35, Orig-A
24-May-18 | MN | Mora | Mora Muni | 8/9657 | 4/6/18 | Takeoff Minimums and Obstacle DP, Orig
24-May-18 | IA | Decorah | Decorah Muni | 8/9849 | 4/6/18 | RNAV (GPS) RWY 11, Orig-C

[FR Doc. 2018-09565 Filed 5-7-18; 8:45 am]

BILLING CODE 4910-13-P